DEPARTMENT OF HOMELAND SECURITY

Coast Guard

[Docket No. USCG-2013-0886]

National Offshore Safety Advisory Committee; Meeting

AGENCY: Coast Guard, DHS.

ACTION: Notice of Meeting.

SUMMARY: The National Offshore Safety Advisory Committee (NOSAC) will meet on November 13 and 14, 2013, in Houston, TX, to discuss various issues related to safety of operations and other matters affecting the oil and gas offshore industry. These meetings are open to the public.

DATES: Subcommittees of NOSAC will meet on Wednesday, November 13, 2013 from 8:30 a.m. to 5 p.m. and the full committee will meet on Thursday, November 14, 2013, from 8:30 a.m. to 4 p.m. Please note that the meetings may close early if the committee has completed its business or be extended based on the level of public comments.

ADDRESSES: The meetings will be held at the offices of Det Norske Veritas (DNV), 1400 Ravello Drive, Katy, TX, 77450, 1-504-522-0083. The November 13th subcommittee meetings will be held in the DNV Conference space. The November 14th full committee meeting will also be held in the DNV Conference space. When arriving, please check in with the DNV receptionist for directions to the Conference space.

For information on facilities or services for individuals with disabilities or to request special assistance at the meeting, contact the person listed in FOR FURTHER INFORMATION CONTACT as soon as possible.

To facilitate public participation, we are inviting public comment on the issues to be considered by the committee prior to the adoption of recommendations as listed in the “AGENDA” section below. Comments must be submitted in writing no later than November 7, 2013, and must be identified by USCG-2013-0886 and may be submitted by one of the following methods:

• Federal eRulemaking Portal: http://www.regulations.gov. Follow the instructions for submitting comments.

• Fax: (202) 493-2251.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number is 202-366-9329.

• To avoid duplication, please use only one of these methods.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this Notice, go to http://www.regulations.gov, insert USCG-2013-0886 in the Keyword ID box, press Enter, and then click on the item you are interested in viewing.

A public comment period will be held during the meeting on November 14, 2013, and speakers are requested to limit their comments to 5 minutes. Please note that the public comment period may end before the time indicated, following the last call for comments. Contact one of the individuals listed below to register as a speaker.

FOR FURTHER INFORMATION CONTACT: Commander Rob Smith, Designated Federal Official (DFO) of NOSAC, Commandant (CG-OES-2), U.S. Coast Guard, 2703 Martin Luther King Jr. Ave. SE., Stop 7509, Washington, DC 20593-7509; telephone (202) 372-1410, fax (202) 372-1926, or Mr. Scott Hartley, Alternate Designated Federal Official (ADFO) of NOSAC, Commandant (CG-OES-2), U.S. Coast Guard, 2703 Martin Luther King Jr. Ave. SE., Stop 7509, Washington, DC 20593-7509; telephone (202) 372-1437, fax (202) 372-1926. If you have questions on viewing or submitting material to the docket, call Barbara Hairston, Program Manager, Docket Operations, telephone 202-366-9826.

SUPPLEMENTARY INFORMATION: Notice of this meeting is given under the Federal Advisory Committee Act, 5 U.S.C. App. (Pub. L. 92-463). NOSAC provides advice and recommendations to the Department of Homeland Security on matters and actions concerning activities directly involved with or in support of the exploration of offshore mineral and energy resources insofar as they relate to matters within U.S. Coast Guard jurisdiction.

Agenda

Day 1

The following NOSAC subcommittees will meet to review, discuss and formulate recommendations:

(1) Standards for Accommodation Service Vessels.

(2) Life Saving and Fire Fighting Voluntary Standards on the Outer Continental Shelf.

(3) Electrical Equipment in Hazardous Areas on Foreign Flag Mobile Offshore Drilling Units.

(4) Safety Impact of Liftboat Sea Service Limitations.

(5) Marine Casualty Reporting/Form CG-2692 Revisions.

(6) Commercial Diving Safety on the OCS.

Subcommittee task statements and additional information are located at the following web address: https://homeport.uscg.mil/NOSAC.

Day 2

The NOSAC will meet on November 14, 2013, to review and discuss progress and or final reports and recommendations received from the above listed subcommittees from their deliberations on November 13th. The Committee will then use this information and consider public comments in formulating recommendations to the agency. Public comments or questions will be taken at the discretion of the DFO during the discussion and recommendation portion of the meeting as well as during public comment period, see Agenda item (9).

A complete agenda for November 14th is as follows:

(1) Presentation and discussion of progress reports and or final reports and any recommendations from the subcommittees and subsequent actions on:

(a) Standards for Accommodation Service Vessels;

(b) Life Saving and Fire Fighting Voluntary Standards on the Outer Continental Shelf (OCS);

(c) Electrical Equipment in Hazardous Areas on Foreign Flag Mobile Offshore Drilling Units (MODUs);

(d) Safety Impact of Liftboat Sea Service Limitations;

(e) Marine Casualty Reporting/Form CG-2692 Revisions; and

(f) Commercial Diving Safety on the OCS.

(2) New Business—Introduction of a new Task Statement by the Coast Guard;

(a) Safety and Environmental Management System Requirements for Vessels on the U.S. Outer Continental Shelf.

(3) USCG-Bureau of Safety and Environmental Enforcement Memorandum of Understanding/Memorandum of Agreements presentation;

(4) USCG Outer Continental Shelf National Center of Expertise briefing on OCS safety issues;

(5) International Association of Drilling Contractors discussion on important International and National offshore oil exploration activities;

(6) Safety and Environmental Management System (SEMS)/Safety Management System (SMS) implementation and the use of Ultimate Work Authority presentation;

(7) Hardware in Loop (HIL)/Integrated Software Dependent Systems presentation;

(8) Challenges with using Liquefied Natural Gas as a marine fuel presentation; and

(9) Public comment.

The agenda, new task statements and presentations will be available approximately 7 days prior to the meeting at the https://www.fido.gov Web site or by contacting Mr. Scott Hartley. Use “code 68” to identify NOSAC when accessing this material through the Web site. Once you have accessed the committee page, click on the meetings tab and then the “View” button for the meeting dated November 14, 2013, to access the information for this meeting. Subcommittee reports will be available approximately 10 days after this meeting. Minutes will be available approximately 90 days after this meeting. All of the above listed information can also be found at an alternative site using the following web address: https://homeport.uscg.mil/NOSAC.

The meeting will be transcribed. A transcript of the meeting and any material presented at the meeting will be made available through the https://www.fido.gov and https://homeport.uscg.mil/NOSAC Web sites.

The committee will review the information presented on each issue, deliberate on any recommendations presented in the subcommittees' progress reports, and formulate recommendations for the agency's consideration.

Dated: October 9, 2013.
J. G. Lantz,
Director of Commercial Regulations and Standards.

[FR Doc. 2013-24743 Filed 10-22-13; 8:45 am]

BILLING CODE 9110-04-P